DEPARTMENT OF DEFENSE

Department of the Air Force

U.S. Air Force Scientific Advisory Board Notice of Meeting

AGENCY: Air Force Scientific Advisory Board, Department of the Air Force, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force (USAF) Scientific Advisory Board (SAB) Winter Board meeting will take place on 27 January 2015 at the Secretary of the Air Force Technical and Analytical Support Conference Center, 1550 Crystal Drive, Arlington, VA 22202. The meeting will occur from 8:00 a.m.-4:30 p.m. on Tuesday, 27 January 2015. The sessions open to the general public will be held from 8:00 a.m. to 8:45 a.m. and 10:00 a.m. to 12:00 p.m. on 27 January 2014. The purpose of this Air Force Scientific Advisory Board quarterly meeting is to officially commence FY15 SAB studies, which consist of: (1) Cyber Vulnerabilities of Embedded Systems on Air And Space Systems, (2) Enhanced Utility of Unmanned Air Vehicles In Contested and Denied Environments, (3) Utility of Quantum Systems for the Air Force. In accordance with 5 U.S.C. 552b, as amended, and 41 CFR 102-3.155, a number of sessions of the USAF SAB Winter Board meeting will be closed to the public because they will discuss classified information and matters covered by section 5 U.S.C. 552b(c) (1).

Due to difficulties beyond the control of the Department of Defense, the Designated Federal Officer was unable to submit the Federal Register notice concerning the January 27, 2015 scheduled meeting of the U.S. Air Force Scientific Advisory Board according to 41 CFR 102-3.150(a). Accordingly, the Advisory Committee Management Officer for the Department of Defense, waives the 15-calendar day notification requirement pursuant to 41 CFR 102-3.150(b).

FOR FURTHER INFORMATION CONTACT: The USAF SAB Executive Director and Designated Federal Officer, Lt Col Tilghman Rittenhouse at tilghman.l.rittenhouse.mil@mail.mil or 240-612-5502, or the meeting organizer Major Mike Rigoni at michael.j.rigoni.mil@mail.mil or 240-612-5504, United States Air Force Scientific Advisory Board, 1500 West Perimeter Road, Ste. #3300, Joint Base Andrews, MD 20762.

Henry Williams,
Civ, DAF, Acting Air Force Federal Register Liaison Officer.

[FR Doc. 2015-01274 Filed 1-23-15; 8:45 am]

BILLING CODE 5001-10-P